DEPARTMENT OF COMMERCE

National Oceanic and Atmospheric Administration

RIN 0648-XD141

Takes of Marine Mammals Incidental to Specified Activities; Marine Geophysical Survey in the Northwest Atlantic Ocean Offshore New Jersey, May to August 2014

AGENCY: National Marine Fisheries Service (NMFS), National Oceanic and Atmospheric Administration (NOAA), Commerce.

ACTION: Notice; proposed incidental harassment authorization; extension of comment period.

SUMMARY: On March 17, 2014, NMFS announced notice of a proposed issuance of an Incidental Harassment Authorization (Authorization) to the Lamont Doherty Earth Observatory in collaboration with the National Science Foundation, to take marine mammals, by harassment incidental to conducting a marine geophysical (seismic) survey in the northwest Atlantic Ocean May through August, 2014. The Federal Register notice indicated that written comments were due by April 16, 2014. However, in response to a request to extend the public comment period, NMFS has decided to extend the public comment period by an additional 30 calendar days.

DATES: NMFS has extended the public comment period for this action from April 16 to May 16, 2014. NMFS must receive written comments and information on or before May 16, 2014.

ADDRESSES: Address comments on the application to Jolie Harrison, Supervisor, Incidental Take Program, Permits and Conservation Division, Office of Protected Resources, National Marine Fisheries Service, 1315 East-West Highway, Silver Spring, MD 20910. The mailbox address for providing email comments is ITP.Cody@noaa.gov. Please include 0648-XD141 in the subject line. Comments sent via email to ITP.Cody@noaa.gov, including all attachments, must not exceed a 25-megabyte file size. NMFS is not responsible for email comments sent to addresses other than the one provided here.

Instructions: All submitted comments are a part of the public record and NMFS will post them to http://www.nmfs.noaa.gov/pr/permits/incidental.htm#applications without change. All Personal Identifying Information (for example, name, address, etc.) voluntarily submitted by the commenter may be publicly accessible. Do not submit confidential business information or otherwise sensitive or protected information.

FOR FURTHER INFORMATION CONTACT: Jeannine Cody, NMFS, Office of Protected Resources, NMFS (301) 427-8401.

SUPPLEMENTARY INFORMATION: Section 101(a)(5)(D) of the Marine Mammal Protection Act of 1972, as amended (MMPA; 16 U.S.C. 1361 et seq.) directs the Secretary of Commerce to allow, upon request, the incidental, but not intentional, taking of small numbers of marine mammals of a species or population stock, by U.S. citizens who engage in a specified activity (other than commercial fishing) within a specified geographical region if, after NMFS provides a notice of a proposed authorization to the public for review and comment: (1) NMFS makes certain findings; and (2) the taking is limited to harassment.

On March 17, 2014, NMFS published a Federal Register notice (79 FR 14779, March 17, 2014) announcing proposed issuance of an Authorization to the Lamont Doherty Earth Observatory to take marine mammals, by harassment incidental to conducting a seismic survey in the northwest Atlantic Ocean May through August, 2014. The 30-day public comment period for the Federal Register notice (79 FR 14779, March 17, 2014) ends on April 16, 2014.

This is the first time that NMFS has proposed to issue an Authorization for harassment incidental to a scientific seismic survey in federal waters approximately 25 to 85 kilometers (km) (15.5 to 52.8 miles (mi)) off the New Jersey coast. NMFS does not have the authority under Section 101(a)(5)(D) of the MMPA to permit, authorize, or prohibit the Lamont Doherty Earth Observatory's seismic survey activities.

On March 25, 2004, Clean Ocean Action, based in New Jersey, requested an extension of the public comment period to aid in their review of the proposed Authorization. NMFS has considered the request and will extend the comment period to May 16, 2014. This extension provides a total of 60 days for public input and continuing Federal agency reviews to inform NMFS' final decision to issue or deny the Authorization. NMFS does not anticipate that this 30-day extension will delay its decision on whether to issue or deny the Authorization.

NMFS refers the reader to the March 17, 2014, notice of proposed Authorization (79 FR 14779, March 17, 2014) for background information concerning the proposed Authorization as this notice does not repeat the information here. For additional information about the Lamont Doherty Earth Observatory's request and the National Science Foundation's environmental analyses, please visit the Web site at: http://www.nmfs.noaa.gov/pr/permits/incidental.htm#applications.

Dated: April 4, 2014.
Perry F. Gayaldo,
Acting Director, Office of Protected Resources, National Marine Fisheries Service.

[FR Doc. 2014-07974 Filed 4-8-14; 8:45 am]

BILLING CODE 3510-22-P